DEPARTMENT OF COMMERCE

International Trade Administration

[A-122-804, C-122-805]

Final Results of Sunset Reviews and Revocation of Antidumping and Countervailing Duty Orders on New Steel Rail From Canada

AGENCY: Import Administration, International Trade Administration, Department of Commerce.

SUMMARY: On January 3, 2005, the Department of Commerce (“Commerce”) initiated sunset reviews of the antidumping and countervailing duty orders on new steel rail from Canada. See Initiation of Five-Year (“Sunset”) Reviews, 70 FR 75 (January 3, 2005). Because no interested domestic party responded to the sunset review notice of initiation by the applicable deadline, the Department is revoking the antidumping and countervailing duty order on new steel rail from Canada.

DATES: Effective Date: February 9, 2005.

FOR FURTHER INFORMATION CONTACT: Martha V. Douthit, Office of Policy, Import Administration, International Trade Administration, U.S. Department of Commerce, 14th Street and Constitution Avenue, NW., Washington, DC 20230; telephone: (202) 482-5050.

SUPPLEMENTARY INFORMATION:

Scope of the Orders

The merchandise subject to these orders is new steel rail, whether of carbon, high carbon, alloy or other quality steel from Canada. Subject merchandise includes, but is not limited to, standard rails, all main line sections (at least 30 kilograms per meter or 60 pounds per yard), heat-treated or head-hardened (premium) rails, transit rails, contact rails (or “third rail”) and crane rails. Rails are used by the railroad industry, by rapid transit lines, by subways, in mines, and in industrial applications.

Specifically excluded from the orders are light rails (less than 30 kilograms per meter or 60 pounds per yard). Also excluded from the orders are relay rails, which are used rails taken up from primary railroad track and relaid in a railroad yard or on a secondary track. As a result of a changed circumstances review in 1996, the antidumping and countervailing duty orders on new steel rail was partially revoked with regard to 100ARA-A new steel rail, except light rail, from Canada. See New Steel Rail, Except Light Rail, From Canada; Final Results of Changed Circumstances Antidumping and Countervailing Duty Administrative Reviews, and Revocation in Part of Antidumping and Countervailing Duty Orders, 61 FR 11607 (March 21, 1996). Also, nominal 60 pounds per yard steel rail is outside the scope of these orders. See New Steel Rail, Except Light Rail, From Canada; Notice of Termination of Changed Circumstances Administrative Reviews and Clarification of Scope Language, 63 FR 43137 (August 12, 1998).

This merchandise is currently classifiable under the Harmonized Tariff Schedule (HTS) items 7302.10.1010, 7302.10.1015, 7302.10.1035, 7302.10.1045, 7302.10.5020, 8548.90.0000. The HTS item numbers are provided for convenience and customs purposes. The written description remains dispositive.

Background

On September 15, 1989, and September 22, 1989, the Department published in the Federal Register the antidumping duty order and countervailing duty order on new steel rail from Canada. See Antidumping Duty Order in New Steel Rail, Except Light Rail, from Canada, 54 FR 38263 (September 15, 1989), Except Light Rail, from Canada, 54 FR 39032 (September 22, 1989). On February 9, 2000, pursuant to 19 CFR 351.218(f)(4), the Department published in the Federal Register its notice of continuation of the antidumping and countervailing duty orders on new steel rail from Canada following the first sunset review. See Continuation of Antidumping Duty Order and Countervailing Duty Order: New Steel Rail from Canada, 65 FR 6358 (February 9, 2000). On January 3, 2005, the Department initiated a second sunset review of these orders pursuant to section 751(c) of the Tariff Act of 1930, as amended, (the “Act”), and 19 CFR part 351, in general. See Initiation of Five-Year (“Sunset”) Review, 70 FR 75 (January 3, 2005). As a courtesy to interested parties, the Department sent letters, via certified and registered mail, to each party listed on the Department's most current service list for this proceeding to inform them of the automatic initiation of a sunset review of these orders. We received no response from the domestic industry by the deadline date. See 19 CFR 351.218(d)(1)(i). As a result, the Department determined that no domestic party intends to participate in the sunset review. On January 27, 2005, the Department notified the International Trade Commission (“ITC”) in writing that we intended to issue a final determination revoking the antidumping and countervailing duty orders. See 19 CFR 351.218(d)(1)(iii)(B).

Determination To Revoke

Pursuant to section 751(c)(3)(A) of the Act and 19 CFR 351.218(d)(1)(iii)(B)(3), if no domestic interested parties respond to the notice of initiation, the Department shall issue a final determination, within 90 days after the initiation of the review, revoking the order. Because no domestic interested party filed a notice of intent to participate or a substantive response, the Department finds that no domestic interested party is participating in this review. Therefore, we are revoking the antidumping and countervailing duty orders on new steel rail from Canada, effective February 9, 2005, the fifth anniversary of the date of the determination to continue the orders, consistent with 19 CFR 351.222(i)(2)(i) and section 751(c)(6)(A)(iii) of the Act.

Effective Date of Revocation

Pursuant to sections 751(c)(3)(A) and 751(c)(6)(A)(iii) of the Act, and 19 CFR 351.222(i)(2)(i), the Department will instruct U.S. Customs and Border Protection to terminate the suspension of liquidation of the merchandise subject to these orders entered, or withdrawn from warehouse, on or after February 9, 2005. Entries of subject merchandise prior to the effective date of revocation will continue to be subject to suspension of liquidation and antidumping and countervailing duty deposit requirements. The Department will complete any pending administrative reviews of these orders and will conduct administrative reviews of subject merchandise entered prior to the effective date of revocation in response to appropriately filed requests for review.

These five-year (“sunset”) reviews and this notice are in accordance with sections 751(c) and 777(i)(1) of the Act.

Dated: April 4, 2005.
Joseph A. Spetrini,
Acting Assistant Secretary for Import Administration.

[FR Doc. E5-1652 Filed 4-8-05; 8:45 am]

BILLING CODE 3510-DS-P